DEPARTMENT OF ENERGY

Federal Energy Regulatory Commission

[Docket No. CP23-82-000]

Columbia Gas Transmission, LLC; Notice of Schedule for the Preparation of an Environmental Assessment for the Lucas and Pavonia Wells Abandonment Project

On March 2, 2023, Columbia Gas Transmission, LLC (Columbia) filed an application in Docket No. CP23-82-000 requesting an Authorization pursuant to section 7(b) of the Natural Gas Act to abandon certain natural gas pipeline facilities. The proposed project is known as the Lucas and Pavonia Wells Abandonment Project (Project), and would result in abandonment of 37 injection/withdrawal wells and associated pipelines and appurtenances at Columbia's existing certificated Lucas and Pavonia Storage Fields in Ashland and Richland Counties, Ohio.

On March 15, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA September 8, 2023

90-day Federal Authorization Decision Deadline ² December 7, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project would consist of the following facilities and activities in Ashland and Richland Counties, Ohio:

• abandonment of 37 injection/withdrawal wells at the Lucas and Pavonia Storage Fields by permanently plugging and abandoning the wells in place;

• abandonment of approximately 41,423 feet of associated 3- to 6-inch-diameter pipeline, of which 39,402 feet would be capped and abandoned in place and 2,021 feet would be abandoned by removal; and

• abandonment by removal of all associated aboveground appurtenances, including, but not limited to, tie-in valves, pipeline markers, cathodic protection test stations, rectifiers, casing vents, and above-ground pipeline blowdown vents.

Background

On April 14, 2023, the Commission issued a Notice of Scoping Period Requesting Comments on Environmental Issues for the Proposed Lucas and Pavonia Wells Abandonment Project and Notice of Public Scoping Session (Notice of Scoping). The Notice of Scoping was sent to affected landowners; federal, state, and local government agencies; elected officials; Native American tribes; other interested parties; and local libraries and newspapers. In response to the Notice of Scoping, the Commission received comments from the Ohio Farm Bureau Federation and one landowner. The primary issues raised by the commenters concerned impacts of the Project on agricultural property and agricultural operations. All substantive environmental comments will be addressed in the EA.

Additional Information

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP23-82), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 30, 2023.
Kimberly D. Bose,
Secretary.

[FR Doc. 2023-11933 Filed 6-5-23; 8:45 am]

BILLING CODE 6717-01-P